DEPARTMENT OF VETERANS AFFAIRS

Advisory Committee on the Readjustment of Veterans; Notice of Meeting

The Department of Veterans Affairs (VA) gives notice under Public Law 92-463 (Federal Advisory Committee Act) that a meeting of the Advisory Committee on the Readjustment of Veterans will be held Thursday, February 6 through Friday, February 7, 2014. The meeting will be conducted at the Department of Veterans Affairs Central Office, 810 Vermont Avenue NW., Washington, DC 20420. The agenda for both days will begin at 8 a.m. and end at 4:30 p.m. The meeting on both days is open to the public.

The purpose of the Committee is to review the post-war readjustment needs of combat Veterans and to evaluate the availability and effectiveness of VA programs to meet these needs.

On February 6, the Committee will be briefed by the Secretary of Veterans Affairs on current directions and priorities for serving the Nation's war Veterans. The Committee will also hear from the Principle Deputy Under Secretary for Health on new directions of care in Veterans Health Administration (VHA) and the coordination of VA healthcare with readjustment counseling.

Also on this date the Committee will receive briefings from key program officials in VHA and Veterans Benefits Administration (VBA) regarding programs of specific value to the psychological, social and economic readjustment of combat Veterans.

On February 7, the Committee will receive updates on the current activities of the Readjustment Counseling Service Vet Center program to include the full scope of outreach and readjustment counseling services provided to combat Veterans. The briefing will also focus on the coordination of Vet Center services with VHA healthcare and mental health and VBA benefits programs. The Committee will also receive briefings on new legislative authorities extending Vet Center readjustment services to new eligible Veteran populations. The agenda will conclude with a Committee strategic planning session for developing the annual Committee Report.

No time will be allocated at this meeting for receiving oral presentations from the public. However, members of the public may direct written questions or submit prepared statements for review by the Committee in advance of the meeting to Mr. Charles M. Flora, M.S.W., Designated Federal Officer, Readjustment Counseling Service (15), Department of Veterans Affairs, 810 Vermont Avenue NW., Washington, DC 20420. Because the meeting will be in a Government building, anyone attending must be prepared to show a valid photo ID for checking in. Please allow 15 minutes before the meeting begins for this process. Those who plan to attend or have questions concerning the meeting may contact Mr. Flora at (202) 461-6525 or charles.flora@va.gov.

Dated: January 14, 2014.
William F. Russo,
Deputy Director, Office of Regulation Policy & Management, Office of the General Counsel.

[FR Doc. 2014-00979 Filed 1-17-14; 8:45 am]

BILLING CODE 8320-01-P